NATIONAL SCIENCE FOUNDATION

Sunshine Act; Meeting

AGENCY HOLDING MEETING: National Science Board; Audit and Oversight Committee.

DATE AND TIME: September 14, 2005, 11 a.m.-12 noon (e.t.).

PLACE: National Science Foundation, 4201 Wilson Boulevard, Arlington, VA 22230, Public Meeting Room 220.

STATUS: This meeting will be open to the public.

MATTERS TO BE CONSIDERED:

Wednesday, September 14, 2005, Open Session.

Open Session (11 a.m. to 12 noon)

Discussion of Draft Report of NSB examination of the NSF Merit Review System.

FOR FURTHER INFORMATION CONTACT: Dr. Michael P. Crosby, Executive Officer and NSB Office Director, (703) 292-7000, http://www.nsf.gov/nsb.

Michael P. Crosby,
Executive Officer and NSB Office Director.

[FR Doc. 05-17948 Filed 9-6-05; 3:46 pm]

BILLING CODE 7555-01-M